DEPARTMENT OF THE TREASURY

Submission for OMB Review; Comment Request

May 12, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 19, 2003 to be assured of consideration.

Internal Revenue Service (IRS)

OMB Number: 1545-0169.

Form Number: IRS Forms 4461, 4461-A, and 4461-B.

Type of Review: Revision.

Title: Form 4461: Application for Approval of Master or Prototype Defined Contribution Plan;

Form 4461-A: Application for Approval of Master or Prototype Defined Benefit Plan; and

Form 4461-B: Application for Approval of Master or Prototype Plan, Mass Submitter Adopting Sponsor.

Description: The IRS uses these forms to determine from the information submitted whether the applicant plan qualifies under section 401(a) of the Internal Revenue Code for plan approval. The application is also used to determine if the related trust qualifies for tax exempt status under Code section 501(a).

Respondents: Business or other for-profit.

Estimated Number of Respondents/Recordkeepers: 1,000.

Estimated Burden Hours Per Respondent/Recordkeeper:

| 4461 | 4461-A | 4461-B
Recordkeeping | 43 hr., 17 min. | 42 hr., 34 min. | 5 hr., 58 min.
Learning about the law or the form | 6 hr., 43 min. | 6 hr., 1 min. | 52 min.
Preparing the form | 8 hr., 39 min. | 7 hr., 55 min. | 1 hr., 56 min.
Copying, assembling, and sending the to the IRS | 16 min. | 16 min. | 16 min.

Frequency of Response: On occasion.

Estimated Total Reporting/Recordkeeping Burden: 109,298 hours.

OMB Number: 1545-0881.

Form Number: IRS Form 8271.

Type of Review:

Title: Investor Reporting of Tax Shelter Registration Number.

Description: All persons who are claiming a deduction, loss, credit, or other tax benefit, or reporting any income on their returns from a tax shelter required to be registered (under IRC 6111) must report the tax shelter registration number on that return. Form 8271 is sued for this purpose. We use the information to associate claimed benefits with the tax shelter and to determine if any compliance actions are needed.

Respondents: Individuals or households, business or other for-profit, not-for-profit institutions, farms, State, Local or Tribal Government.

Estimated Number of Respondents/Recordkeepers: 297,500.

Estimated Burden Hours Per Respondent/Recordkeeper:

Recordkeeping—6 min.

Learning about the law or the form—7 min.

Preparing the form—16 min.

Copying, assembling, and sending the form to the IRS—10 min.

Frequency of Response: Annually.

Estimated Total Reporting/Recordkeeping Burden: 205,275 hours.

OMB Number: 1545-1099.

Form Number: IRS Form 8811.

Type of Review: Extension.

Title: Information Return for Real Estate Mortgage Investment Conduits (REMICs) and Issuers of Collateralized Debt Obligations

Description: Form 8811 is used to collect the name, address, and phone number of a representative of a REMIC who can provide brokers with the correct income amounts that the broker's clients must report on their income tax returns. The form allows the IRS to provide the REMIC industry the information necessary to issue correct information returns to investors.

Respondents: Business or other for-profit.

Estimated Number of Respondents/Recordkeepers: 1,000.

Estimated Burden Hours Per Respondent/Recordkeeper:

Recordkeeping—3 hr., 49 min.

Learning about the law or the form—35 min.

Preparing, copying, assembling, and sending the form to the IRS—41 min.

Frequency of Response: Other (One-time for each obligation).

Estimated Total Reporting/Recordkeeping Burden: 5,110 hours.

OMB Number: 1545-1277.

Form Number: IRS Form 1040-TeleFile.

Type of Review: Revision.

Title: TeleFile.

Description: Form 1040EZ filers whose IRS mail label has not changed, will be given the option to file their return by telephone, with no return to send in to the IRS. The IRS will use the information obtained to compute the taxpayer's refund or balance due.

Respondents: Individuals or households.

Estimated Number of Respondents/Recordkeepers: 4,578,000.

Estimated Burden Hours Per Respondent/Recordkeeper:

Recordkeeping—6 min.

Learning about the law or the Tax Record—26 min.

Preparing the Tax Record—39 min.

TeleFile phone call—10 min.

Preparing Form 8855-V—22 min.

Frequency of Response: Annually.

Estimated Total Reporting/Recordkeeping Burden: 7,133,900 hours. Clearance Officer: Glenn Kirkland (202) 622-3428, Internal Revenue Service, Room 6411-03, 1111 Constitution Avenue, NW., Washington, DC 20224. OMB Reviewer: Joseph F. Lackey, Jr. (202) 395-7316, Office of Management and Budget, Room 10235, New Executive Office Building, Washington, DC 20503.

Lois K. Holland,
Departmental Reports Management Officer.

[FR Doc. 03-12595 Filed 5-19-03; 8:45 am]

BILLING CODE 4830-01-J